NATIONAL SCIENCE FOUNDATION

Notice of Permit Applications Received Under the Antarctic Conservation Act of 1978 (Pub. L. 95-541)

AGENCY: National Science Foundation.

ACTION: Notice of Permit Modification Received under the Antarctic Conservation Act of 1978, P.L. 95-541.

SUMMARY: The National Science Foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to this permit application within 30 days of the publication of this notice. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Public Law 95-541), has developed regulations that implement the “Agreed Measures for the Conservation of Antarctic Fauna and Flora” for all United States citizens. The Agreed Measures, developed by the Antarctic Treaty Consultative Parties, recommended establishment of a permit system for various activities in Antarctica and designation of certain animals and certain geographic areas as requiring special protection. The regulations establish such a permit system to designate Specially Protected Areas and Sites of Special Scientific Interest.

DESCRIPTION OF PERMIT MODIFICATION REQUESTED: The Foundation issued a permit (ACA #2001-025) to Dr. Daniel P. Costa on March 12, 2001. The issued permit allows the applicant to capture up to 25 Crabeater seals (Lobodon carcinophagus), and up to 10 each of Leopard (Thydrrurga leoptony), Weddell (Leptonyshotes weddellii), and Ross seals (Ommatophoca rossil) per season over the next 3 years for the purpose of collecting blood, tissue and stomach samples, take measurements, and attach satellite relay data loggers (SRDL) and VHF radio tags. The samples will be studied to determine and better understand the foraging strategies utilized by marine predators in the face of meso- and fine-scale ecological variability.

The applicant requests a modification to his permit to allow access to the Antarctic Specially Protected Areas of the Dion Islands (ASPA #107), Lagotellerie Island (ASPA #115), Avian Island (ASPA #117), and Rothera Point, Adelaide Island (ASPA #129) located in the Antarctic Peninsula. The applicant had difficulty locating seals in the Marguerite pack ice in the spring last season and requests to enter the specially protected areas locate seals hauled out on the shore. This would greatly improve chances of meeting sample goals and allowing vessel usage to be more optimized for the oceanographic studies underway. Access to sites will be by zodiac or small boat.

Location: Dion Islands (ASPA #107), Lagotellerie Island (ASPA #115), Avian Island (ASPA #117), and Rothera Point, Adelaide Island (ASPA #129).

Dates: April 1, 2001 to August 31, 2003.

Nadene G. Kennedy,
Permit Officer, Office of Polar Programs.

[FR Doc. 02-5238 Filed 3-4-02; 8:45 am]

BILLING CODE 7555-01-M